DEPARTMENT OF VETERANS AFFAIRS

Advisory Committee on Minority Veterans; Notice of Availability of Report

In compliance with section 13 of Public Law 92-463 (Federal Advisory Committee Act) notice is hereby given that the 2006 Annual Report of the Department of Veterans Affairs (VA) Advisory Committee on Minority Veterans has been issued. The report summarizes activities and recommendations of the Committee on matters relative to VA programs and policies affecting minority veterans. It is available for public inspection at two locations:

Mr. Richard Yarnall, Federal Advisory Committee Desk, Library of Congress, Anglo-American Acquisition Division, Government Documents Section, Room LM-B42, 101 Independence Avenue, SE., Washington, DC 20540-4172.

and

Department of Veterans Affairs, Center for Minority Veterans, Suite 435, 810 Vermont Avenue, NW., Washington, DC 20420.

Dated: January 9, 2007.
By Direction of the Secretary.
E. Philip Riggin,
Committee Management Officer.

[FR Doc. 07-181 Filed 1-17-07; 8:45 am]

BILLING CODE 8320-01-M